DEPARTMENT OF AGRICULTURE

Food Safety and Inspection Service

[Docket No. FSIS-2013-0043]

Codex Alimentarius Commission: Meeting of the Codex Committee on Spices and Culinary Herbs

AGENCY: Office of the Under Secretary for Food Safety, USDA.

ACTION: Notice of public meeting and request for comments.

SUMMARY: The Office of the Under Secretary for Food Safety U.S. Department of Agriculture (USDA) is sponsoring a public meeting that will take place on January 23, 2014. The objective of the public meeting is to provide information and receive public comments on agenda items and draft United States positions that will be discussed at the first session of the Codex Committee on Spices and Culinary Herbs (CCSCH) of the Codex Alimentarius Commission (Codex), taking place in Kochi (Cochin), India, February 11-14, 2014. The Acting Under Secretary for Food Safety recognizes the importance of providing interested parties the opportunity to obtain background information on the 1st Session of CCSCH and to address items on the agenda.

DATES: The public meeting is scheduled for Wednesday, January 23, 2014 from 1 p.m. to 4 p.m.

ADDRESSES: The public meeting will take place at The United States Department of Agriculture, Jamie L. Whitten Building, Room 107-A, 1400 Independence Avenue SW., Washington, DC 20250. Documents related to the 1st session of CCSCH will be accessible via the World Wide Web at the following address: http://www.codexalimentarius.org/meetings-reports/en/.

Mary Frances Lowe, The U.S. Codex Manager to invites U.S. interested parties to submit their comments electronically to the following email addresses: Dorian.Lafond@ams.usda.gov & George.Ziobro@fda.hhs.gov.

Call In Number

If you wish to participate in the public meeting for the 1st session of CCSCH by conference call, please use the call in number and participant code listed below:

Call in Number: 1-888-844-9904.

Participant Code: 512-6092.

For Further Information About the 1st Session of CCSCH Contact: Kenneth Lowery, International Issues Analyst, U.S. Codex Office, 1400 Independence Avenue SW., Room 4861, South Building, Washington, DC 20250; Phone: (202) 690-4042; Fax: (202) 720-3157; Email: Kenneth.Lowery@fsis.usda.gov.

For Further Information About the Public Meeting Contact: Kenneth Lowery, International Issues Analyst, U.S. Codex Office, 1400 Independence Avenue SW., Room 4861, South Building, Washington, DC 20250; Phone: (202) 690-4042, Fax: (202) 720-3157, Email: Kenneth.Lowery@fsis.usda.gov.

SUPPLEMENTARY INFORMATION:

Background

The Codex Alimentarius (Codex) was established in 1963 by two United Nations organizations, the Food and Agriculture Organization and the World Health Organization. Through adoption of food standards, codes of practice, and other guidelines developed by its committees, and by promoting their adoption and implementation by governments, Codex seeks to protect the health of consumers and ensure that fair practices are used in trade.

The CCSCH is responsible for elaborating worldwide standards for spices and culinary herbs in their dried and dehydrated state in whole ground, and cracked or crushed form, consulting as necessary, with other international organizations in the standards development process to avoid duplication.

The Committee is hosted by India.

Issues To Be Discussed at the Public Meeting

The following items on the Agenda for the 1st session of CCSCH will be discussed during the public meeting:

• Matters Referred by the Codex Alimentarius Commission and other Codex Committees and Task Forces

• Activities of International Organizations relevant to the Work of CCSCH

• Work Management modalities of the CCSCH

• Mechanisms for prioritization of the work

• Proposals for New Work (replies to CL 2013/22-SCH)

• Other Business and Future Work

Each issue listed will be fully described in documents distributed, or to be distributed, by the Secretariat prior to the Meeting. Members of the public may access or request copies of these documents (see ADDRESSES).

Public Meeting

At the January 23, 2014 public meeting, draft U.S. positions on the agenda items will be described and discussed, and attendees will have the opportunity to pose questions and offer comments. Written comments may be offered at the meeting or sent to the U.S. contacts for the 1st session of CCSCH, (see ADDRESSES). Written comments should state that they relate to activities of the 1st session of CCSCH.

Additional Public Notification

FSIS will announce this notice online through the FSIS Web page located at http://www.fsis.usda.gov/wps/portal/fsis/topics/regulations/federal-register.

FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. In addition, FSIS offers an electronic mail subscription service which provides automatic and customized access to selected food safety news and information. This service is available at http://www.fsis.usda.gov/wps/portal/fsis/programs-and-services/email-subscription-service. Options range from recalls to export information to regulations, directives, and notices. Customers can add or delete subscriptions themselves, and have the option to password protect their accounts.

USDA Nondiscrimination Statement

The U.S. Department of Agriculture (USDA) prohibits discrimination in all its programs and activities on the basis of race, color, national origin, gender, religion, age, disability, political beliefs, sexual orientation, and marital or family status. (Not all prohibited bases apply to all programs.)

Persons with disabilities who require alternative means for communication of program information (Braille, large print, audiotape, etc.) should contact USDA's Target Center at (202) 720-2600 (voice and TTY).

To file a written complaint of discrimination, write USDA, Office of the Assistant Secretary for Civil Rights, 1400 Independence Avenue SW., Washington, DC 20250-9410 or call (202) 720-5964 (voice and TTY). USDA is an equal opportunity provider and employer.

Done at Washington, DC, on January 8, 2014.
Mary Frances Lowe,
U.S. Manager for Codex Alimentarius.

[FR Doc. 2014-00815 Filed 1-16-14; 8:45 am]

BILLING CODE 3410-DM-P